FEDERAL TRADE COMMISSION

16 CFR Part 23

Guides for the Jewelry, Precious Metals, and Pewter Industries

AGENCY: Federal Trade Commission (FTC or Commission)

ACTION: Extension of deadline for submission of public comments.

SUMMARY: The FTC is extending the deadline for filing public comments on a proposed amendment to the platinum section of the Guides for the Jewelry, Precious Metals, and Pewter Industries for an additional ninety (90) days.

DATES: Written comments must be received on or before August 25, 2008.

ADDRESSES: Interested parties are invited to submit written comments. Comments should refer to “Jewelry Guides, Matter No. G711001” to facilitate the organization of comments. A comment filed in paper form should include this reference both in the text and on the envelope, and should be mailed or delivered, with two copies, to the following address: Federal Trade Commission/Office of the Secretary, Room 135-H (Annex E), 600 Pennsylvania Avenue, N.W., Washington, D.C. 20580. If the comment contains any material for which confidential treatment is requested, it must be filed in paper (rather than electronic) form, and the first page of the document must be clearly labeled “Confidential.”¹ The FTC is requesting that any comment filed in paper form be sent by courier or overnight service, if possible, because U.S. postal mail in the Washington area, and at the Commission, is subject to delay due to heightened security precautions.

¹ Commission Rule 4.2(d), 16 CFR 4.2 (d). The comment must be accompanied by an explicit request for confidential treatment, including the factual and legal basis for the request, and must identify the specific portions of the comment to be withheld from the public record. The request will be granted or denied by the Commission’s General Counsel, consistent with applicable law and the public interest. See Commission Rule 4.9(c), 16 CFR 4.9(c).

Because U.S. postal mail is subject to delay due to heightened security measures, please consider submitting your comments in electronic form. Comments filed in electronic form (except comments containing any confidential material) should be submitted by clicking on the following: https://secure.commentworks.com/ftc-jewelry and following the instructions on the web-based form. To ensure that the Commission considers an electronic comment, you must file it on the web-based form at https://secure.commentworks.com/ftc-jewelry. If this Notice appears at http://www.regulations.gov, you may also file an electronic comment through that website. The Commission will consider all comments that regulations.gov forwards to it.

The FTC Act and other laws the Commission administers permit the collection of public comments to consider and use in this proceeding as appropriate. The Commission will consider all timely and responsive public comments that it receives, whether filed in paper or electronic form. Comments will be available to the public on the FTC website, to the extent practicable, at http://www.ftc.gov. As a matter of discretion, the FTC makes every effort to remove home contact information for individuals from the public comments it receives before placing those comments on the FTC website. More information, including routine uses permitted by the Privacy Act, may be found in the FTC's privacy policy at http://www.ftc.gov/ftc/privacy.htm.

FOR FURTHER INFORMATION CONTACT: Robin Rosen Spector, Attorney, (202) 326-3740, or Janice Podoll Frankle, Attorney, (202) 326-3022, Division of Enforcement, Bureau of Consumer Protection, Federal Trade Commission, 600 Pennsylvania Avenue, N.W., Washington, D.C. 20580.

SUPPLEMENTARY INFORMATION: On February 26, 2008, the Commission published a request for comment on a proposed amendment to the platinum section of the Guides for the Jewelry, Precious Metals, and Pewter Industries² (Jewelry Guides or Guides). The proposed amendment provides guidance on how to mark or describe non-deceptively products that contain at least 500 parts per thousand, but less than 850 parts per thousand, pure platinum and do not contain at least 950 parts per thousand platinum group metals. The Commission also sought comment on whether it should revise the Guides to provide guidance on how to mark or describe platinum-clad, filled, plated, or overlay products. The notice designated May 27, 2008 as the deadline for filing public comments.

² 73 FR 10190 (February 26, 2008).

Two trade associations that represent jewelry industry members, Platinum Guild International (PGI) and Jewelers Vigilance Committee (JVC), request a 90-day extension of the comment period. The associations explain that the Commission requested responses to 19 questions, that include over 20 subparts, and expressly requested submission of empirical data.³ PGI states that the current deadline does not provide sufficient time to develop its comments and generate data to address the questions. JVC explains that the current period does not allow sufficient time for its Platinum Task Force ⁴ to collect the information required to fully address the issues.

³ The notice includes 19 questions that have 27 sub-parts. Id.

⁴ The JVC co-chairs this task force with two other industry trade associations, Manufacturing Jewelers and Suppliers of America and Jewelers of America.

Karat Platinum LLC, a marketer of platinum/base metal alloys, filed a comment opposing the request for extension. Karat Platinum asserts that additional time is not needed in order to fully and completely respond to the Commission’s request for comment and that a delay will perpetuate market confusion. Karat Platinum states that the issues surrounding the appropriate terminology for this alloy are not new and many of the questions in the request for comment overlap with those posed in the Commission’s 2005 FRN requesting comment on this issue.⁵

⁵ 70 FR 38836 (July 6, 2005).

The Commission is mindful of the need to deal with this matter expeditiously. However, the Commission also recognizes that its proposal raises complex issues and believes that extending the comment period to facilitate the creation of a more complete record outweighs any harm that might result from any delay. Accordingly, the Commission has decided to extend the comment period to August 25, 2008.

By direction of the Commission.

Donald S. Clark,
Secretary.

[FR Doc. E8-9171 Filed 4-25-08: 8:45 am]

[Billing Code 6750-01-S]